DEPARTMENT OF ENERGY

Federal Energy Regulatory Commission

[Docket No. CP08-99-000]

Trunkline Gas Company, LLC; Notice of Request Under Blanket Authorization

April 11, 2008.

Take notice that on April 2, 2008, Trunkline Gas Company, LLC (Trunkline), P. O. Box 4967, Houston, Texas 77210-4967, filed in Docket No. CP08-99-000, a prior notice request pursuant to sections 157.205, 157.208, and 157.210 of the Federal Energy Regulatory Commission's regulations under the Natural Gas Act for authorization to construct and operate the Field Zone Expansion II Pipeline Project, located in Jasper County, Texas, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, Trunkline proposes to construct, own, and operate approximately 6.6 miles of 36-inch diameter mainline pipeline and appurtenant facilities, looping Trunkline's existing pipeline in Jasper County, Texas, augmenting the Field Zone Expansion Project facilities. Trunkline estimates the cost of construction to be $24,490,000. Trunkline states that this new pipeline loop, designated as Line 100-3, will allow Trunkline to provide an additional 95 MMcf/day of firm transportation service in Trunkline's field zone system in Texas.

Any questions regarding the application should be directed to Stephen T. Veatch, Regulatory Affairs, Trunkline Gas Company, LLC, 5444 Westheimer Road, Houston, Texas 77056, call (713) 989-2024, or fax (713) 989-1158, or by e-mail stephen.veatch@SUG.com.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-8486 Filed 4-18-08; 8:45 am]

BILLING CODE 6717-01-P